DEPARTMENT OF TRANSPORTATION

Federal Aviation Administration

14 CFR Part 39

[Docket No. FAA-2004-19613; Directorate Identifier 2004-SW-38-AD; Amendment 39-13870; AD 2004-23-15]

RIN 2120-AA64

Airworthiness Directives; MD Helicopters, Inc. Model MD900 Helicopters

Correction

In rule document 04-25542 beginning on page 67805 in the issue of Monday, November 22, 2004, make the following correction:

On page 67805, in the first column, under the DATES heading, in the second paragraph, in the third line, “January 21, 2004” should read, “January 21, 2005.”

[FR Doc. C4-25542 Filed 12-22-04; 8:45 am]

BILLING CODE 1505-01-D

GOVERNMENT ACCOUNTABILITY OFFICE

4 CFR Part 21

Government Accountability Office, Administrative Practice and Procedure, Bid Protest Regulations, Government Contracts

Correction

In proposed rule document 04-27615 beginning on page 75878 in the issue of Monday, December 20, 2004, make the following corrections:

1. On page 75878, in the first column, under the SUMMARY heading, in the 23rd line, “legislating” should read, “legislation”.

2. On the same page, under the SUPPLEMENTARY INFORMATION heading, in the third column, in the second line, “should” should read, “would”.

3. On the same page, in the same column, in the first paragraph, in the 13th line, “bide” should read, “bid” and in the 24th line, “a” should read, “at”.

4. On the same page, in the same column, in the second paragraph, in the 7th line, the citation “April 19, 2004, CPD ¶ 82” should read, “April 19, 2004, 2004 CPD ¶ 82”.

5. On page 75879, under the Issues Not for GAO Review heading, in the second column, in the first paragraph, in the 4th line, “considerations” should read, “consideration”.

6. On the same page, in the third column, in first paragraph, in the first line, “Regulations” should read, “Regulations,”.

7. On the same page, in the same column, the List of Subjects heading is corrected to read as follows:

List of Subjects in 4 CFR Part 21

8. On the same page, in the same column, in the last line, “title 34” should read, “title 4”.

[FR Doc. C4-27615 Filed 12-22-04; 8:45 am]

BILLING CODE 1505-01-D